DEPARTMENT OF ENERGY

[OE Docket No. EA-493]

Application To Export Electric Energy; SociVolta, Inc.

AGENCY: Office of Electricity, Department of Energy.

ACTION: Notice of application.

SUMMARY: SociVolta, Inc. (Applicant or SociVolta) has applied for authorization to transmit electric energy from the United States to Mexico pursuant to the Federal Power Act.

DATES: Comments, protests, or motions to intervene must be submitted on or before January 27, 2022.

ADDRESSES: Comments, protests, motions to intervene, or requests for more information should be addressed by electronic mail to Electricity.Exports@hq.doe.gov, or by facsimile to (202) 586-8008.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (FPA) (16 U.S.C. 824a(e)).

On December 13, 2021, SociVolta filed an application with DOE (Application or App.) to “transmit electric energy from the United States to Mexico for a period of five (5) years.” App. at 1. SociVolta states that it “is a Canadian company with its principal place of business in Montreal, Quebec,” adding that it “was incorporated in Quebec under a Canadian federal charter.” Id. SociVolta represents that it “does not have any affiliates or upstream owners that possess any ownership interest or involvement in any other company that is a traditional utility or that owns, operates, or controls any electric generation, transmission or distribution facilities, nor do they have any direct involvement with the energy industry other than through the ownership of SociVolta.” Id. at 2.

SociVolta further claims that it would “purchase power to be exported from a variety of sources such as power marketers, independent power producers, or U.S. electric utilities and federal power marketing entities as those terms are defined in Sections 3(22) and 3(19) of the [FPA].” App. at 3. SociVolta contends that its proposed exports would be “surplus to the system of the generator and, therefore, the electric power that [it would] export on either a firm or interruptible basis [would] not impair the sufficiency of the electric power supply within the U.S.” Id. SociVolta adds that its proposed exports would “not impair or tend to impede the sufficiency of electric supplies in the U.S. or the regional coordination of electric utility planning or operations.” Id. at 4.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning SociVolta's application to export electric energy to Mexico should be clearly marked with OE Docket No. EA-493. Additional copies are to be provided directly to Ruta Kalvaitis Skučas, 1601 K St. NW, Washington, DC 20006, rskucas@klgate.com; and Daniel Harris, 5455 De Gaspe Ave., Suite 710, Montreal, Quebec H2T 3B3 Canada, info@socivolta.com.

A final decision will be made on the requested authorization after the environmental impacts have been evaluated pursuant to DOE's National Environmental Policy Act Implementing Procedures (10 CFR part 1021) and after DOE evaluates whether the proposed action will have an adverse impact on the sufficiency of supply or reliability of the U.S. electric power supply system.

Copies of the Application will be made available, upon request, by accessing the program website at https://energy.gov/node/11845, or by emailing Matt Aronoff at matthew.aronoff@hq.doe.gov.

Signed in Washington, DC, on December 22, 2021.
Christopher Lawrence,
Management and Program Analyst, Electricity Delivery Division, Office of Electricity.

[FR Doc. 2021-28200 Filed 12-27-21; 8:45 am]

BILLING CODE 6450-01-P